SELECTIVE SERVICE SYSTEM

Performance Review Board Membership

AGENCY: Selective Service System.

ACTION: Notice.

SUMMARY: Notice is hereby given of the names of the members of the Performance Review Board.

FOR FURTHER INFORMATION CONTACT: Lee Levells, Human Resources Officer, Selective Service System, 1501 Wilson Blvd., Arlington, VA 22209, telephone: 703-605-4011.

SUPPLEMENTARY INFORMATION: Sec. 4314(c) (1) through (5) of title 5, U.S.C., requires each agency to establish, in accordance with regulations prescribed by the Office of Personnel Management, one or more performance review boards. The board shall review and evaluate the initial appraisal of a senior executive's performance by the supervisor, along with any recommendations to the appointing authority relative to the performance of the senior executive.

The Members of the Performance Review Board Are

1. Mark Blythe, Director of Field Service, U.S. Railroad Retirement Board

2. Peggy Gartner, Deputy Office Head, Office of Information and Resource Management, National Science Foundation

3. Leslie Bayless, Chief Operating Officer, Federal Mine Safety and Health Review Commission

Daniel A. Lauretano, Sr.,
General Counsel.

[FR Doc. 2024-24311 Filed 10-18-24; 8:45 am]

BILLING CODE 8015-01-P